DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 22, 2006.

Interested persons are invited to submit written comments regarding the subject matter of the investigations to the Director, Division of Trade Adjustment Assistance, at the address shown below, not later than December 22, 2006.

The petitions filed in this case are available for inspection at the Office of the Director, Division of Trade Adjustment Assistance, Employment and Training Administration, U.S. Department of Labor, Room C-5311, 200 Constitution Avenue, NW., Washington, DC 20210.

Signed at Washington, DC, this 4th day of December 2006.
Linda G. Poole,
Certifying Officer, Division of Trade Adjustment Assistance.

APPENDIX
[TAA petitions instituted between 11/27/06 and 12/1/06]
TA-W | Subject Firm (Petitioners) | Location | Date of institution | Date of petition
60481 | Neptco (Comp) | Lenoir, NC | 11/27/06 | 11/22/06
60482 | Du-Co Ceramics Co. (USW) | Saxonburg, PA | 11/27/06 | 11/21/06
60483 | AccuMed QCIV Laminating, Inc. (Comp) | Danville, PA | 11/27/06 | 11/21/06
60484 | Pioneer Furniture Mfg. Co. (Comp) | Athens, TN | 11/27/06 | 11/25/06
60485 | Lockheed Martin Simulation (Wkrs) | Orlando, FL | 11/27/06 | 11/17/06
60486 | Alma Products Co. (Comp) | Alma, MI | 11/27/06 | 11/22/06
60487 | Staff Mark (State) | Searcy, AR | 11/27/06 | 11/27/06
60488 | Tellabs (Wkrs) | Petaluma, CA | 11/27/06 | 11/21/06
60489 | EDS Electronic Data Systems (Union) | Rochester, NY | 11/28/06 | 11/21/06
60490 | Bollag International Corp. (SC) | Greenwood, SC | 11/28/06 | 11/22/06
60491 | Hipwell Manufacturing Co. (Wkrs) | Pittsburgh, PA | 11/28/06 | 11/27/06
60492 | Anderson Global (IAMAW) | Muskegon Heights, MI | 11/28/06 | 11/27/06
60493 | Progessive Logistics (Wkrs) | Mayfield, KY | 11/28/06 | 11/13/06
60494 | Walter Mcilvain Company (Comp) | Acme, PA | 11/28/06 | 11/27/06
60495 | Industrial Tool and Engineering (Comp) | Warrenville, SC | 11/28/06 | 11/27/06
60496 | Hill-Rom Company, Inc. (Comp) | Batesville, IN | 11/28/06 | 11/27/06
60497 | Bruard's, Inc. (Wkrs) | Conover, NC | 11/28/06 | 11/27/06
60498 | Anvil Knit Wear, Inc. (Comp) | Swannanoa, NC | 11/29/06 | 11/28/06
60499 | Eaton Corporation (Comp) | Belmond, IA | 11/29/06 | 11/29/06
60500 | Potlatch Corporation (State) | Warren, AR | 11/29/06 | 11/29/06
60501 | AET Films (Comp) | Terre Haute, IN | 11/29/06 | 11/20/06
60502 | Superior Industries (Comp) | Johnson City, TN | 11/29/06 | 11/10/06
60503 | Sourcing Connection., Inc. (Comp) | Statesville, NC | 11/29/06 | 11/27/06
60504 | Ford Motor Company (UAW) | Hazelwood, MO | 11/29/06 | 11/21/06
60505 | Calstar Textiles, Inc. (States) | Vernon, CA | 11/29/06 | 11/08/06
60506 | TRW Automotive (Wrks) | Mt. Vernon, OH | 11/29/06 | 11/27/06
60507 | Washington Mutual Bank (Wrks) | Florence, SC | 11/29/06 | 11/17/06
60508 | Enhanced Presentations, Inc. (Wrks) | Wilmington, NC | 11/29/06 | 11/28/06
60509 | K-C Fish Co., Inc. (Comp) | Blaine, WA | 11/30/06 | 11/29/06
60510 | BHK of America (Wkrs) | South Boston, VA | 11/30/06 | 11/29/06
60511 | Saturday Knight Ltd. (Comp) | Cincinnati, OH | 11/30/06 | 11/27/06
60512 | Showood, Inc. (Comp) | Ecru, MS | 11/30/06 | 11/29/06
60513 | Cadence Innovation (Wkrs) | Almont, MI | 11/30/06 | 11/27/06
60514 | Intel Hawthorne Farm Campus (State) | Hillsboro, OR | 11/30/06 | 11/02/06
60515 | Maytag Newton Division (Comp) | Newton, IA | 11/30/06 | 11/16/06
60516 | Milliken and Company (Wkrs) | Kingstree, SC | 12/01/06 | 11/29/06
60517 | Lexington Monitoring Operations Level 1 (Wkrs) | Lexington, KY | 12/01/06 | 11/29/06
60518 | Russell Corporation/DeSoto Mills (Wkrs) | Fort Payne, AL | 12/01/06 | 12/01/06
60519 | Sun Chemical Corporation (Comp) | Muskegon, MI | 12/01/06 | 11/30/06
60520 | Lear Corporation ESD (Wkrs) | Southfield, MI | 12/01/06 | 11/30/06

[FR Doc. E6-21110 Filed 12-11-06; 8:45 am]

BILLING CODE 4510-30-P